DEPARTMENT OF COMMERCE

International Trade Administration

[A-560-828]

Certain Uncoated Paper From Indonesia: Preliminary Results of Antidumping Duty Administrative Review; 2017-2018

AGENCY: Enforcement and Compliance, International Trade Administration, Department of Commerce.

SUMMARY: The Department of Commerce (Commerce) preliminarily determines that the sole producer/exporter subject to this administrative review made sales of subject merchandise below normal value. We invite interested parties to comment on these preliminary results.

DATES: Applicable November 7, 2018.

FOR FURTHER INFORMATION CONTACT: Blaine Wiltse or Jacob Garten, AD/CVD Operations, Office II, Enforcement and Compliance, International Trade Administration, U.S. Department of Commerce, 1401 Constitution Avenue NW, Washington, DC 20230; telephone: (202) 482-6345 or (202) 482-3342, respectively.

SUPPLEMENTARY INFORMATION:

Background

Commerce is conducting an administrative review of the antidumping duty order on certain uncoated paper (uncoated paper) from Indonesia. The notice of initiation of this administrative review was published on May 2, 2018.¹ This review only covers APRIL,² a producer and exporter of the subject merchandise. The period of review is March 1, 2017, through February 28, 2018. The deadline for the preliminary results of this administrative review is December 3, 2018.³

¹ See Initiation of Antidumping and Countervailing Duty Administrative Reviews, 83 FR 19215 (May 2, 2018) (Initiation Notice).

² Commerce initiated this review on PT Anugerah Kertas Utama, PT Riau Andalan Kertas, and APRIL Fine Paper Macao Offshore Limited (collectively, APRIL). However, during the course of the prior review, Commerce determined to collapse, and treat as a single entity, APRIL and two affiliated parties, PT Sateri Viscose International and A P Fine Paper Trading (Hong Kong) Limited. See Certain Uncoated Paper from Indonesia: Preliminary Results of Antidumping Duty Administrative Review; 2015-2017, 83 FR 15129 (April 9, 2018), and accompanying Preliminary Decision Memorandum at 4-6, unchanged in Certain Uncoated Paper from Indonesia: Final Results of Antidumping Duty Administrative Review; 2015-2017, 83 FR 39410 (August 9, 2018). This collapsed entity is hereinafter collectively referred to as APRIL.

³ See 19 CFR 351.213(h)(1). On August 9, 2018, Domtar Corporation and P.H. Glatfelter Company (the petitioners) requested that the preliminary results be expedited.

We preliminarily determine that APRIL made sales of subject merchandise at less than normal value. If these preliminary results are adopted in the final results of this review, we will instruct U.S. Customs and Border Protection (CBP) to assess antidumping duties on any of APRIL's entries.

Scope of the Order

The product covered by the order is certain uncoated paper from Indonesia. The subject merchandise is currently classifiable under Harmonized Tariff Schedule of the United States (HTSUS) categories 4802.56.1000, 4802.56.2000, 4802.56.3000, 4802.56.4000, 4802.56.6000, 4802.56.7020, 4802.56.7040, 4802.57.1000, 4802.57.2000, 4802.57.3000, and 4802.57.4000. Some imports of subject merchandise may also be classified under 4802.62.1000, 4802.62.2000, 4802.62.3000, 4802.62.5000, 4802.62.6020, 4802.62.6040, 4802.69.1000, 4802.69.2000, 4802.69.3000, 4811.90.8050 and 4811.90.9080. While HTSUS subheadings are provided for convenience and customs purposes, the written description of the scope of the order is dispositive.⁴

⁴ For a complete description of the scope of the order, see Memorandum, “Decision Memorandum for the Preliminary Results of the 2017-2018 Administrative Review of the Antidumping Duty Order on Certain Uncoated Paper from Indonesia” (Preliminary Decision Memorandum), issued concurrently with and hereby adopted by this notice.

Methodology

Commerce is conducting this review in accordance with sections 751(a)(1)(B) and (2) of the Tariff Act of 1930, as amended (the Act). Pursuant to section 776(a) and (b) of the Act, Commerce has preliminarily relied upon facts otherwise available with adverse inferences (AFA) for APRIL, because this respondent did not timely respond to all sections of Commerce's initial antidumping duty questionnaire.

For a complete explanation of the methodology and analysis underlying the preliminary application of AFA, see the accompanying Preliminary Decision Memorandum. The Preliminary Decision Memorandum is a public document and is on file electronically via Enforcement and Compliance's Antidumping and Countervailing Duty Centralized Electronic Service System (ACCESS). ACCESS is available to registered users at https://access.trade.gov, and to all parties in the Central Records Unit, Room B8024 of the main Department of Commerce building. In addition, a complete version of the Preliminary Decision Memorandum can be found at http://enforcement.trade.gov/frn/. The signed Preliminary Decision Memorandum and the electronic version of the Preliminary Decision Memorandum are identical in content. A list of the topics discussed in the Preliminary Decision Memorandum is attached as an Appendix to this notice.

Preliminary Results of the Review

As a result of this review, we preliminarily determine that the weighted-average dumping margin exists for APRIL for the period March 1, 2017, through February 28, 2018, as follows:

⁵ The cash deposit rate is equal to the petition rate (66.82 percent) adjusted for the lowest rate of export subsidies found for any company in the most recently completed companion countervailing duty segment. See Certain Uncoated Paper from Indonesia: Final Results of Countervailing Duty Administrative Review; 2015-2016, 83 FR 52383 (October 17, 2018), and accompanying Issues and Decision Memorandum at Section V(3), showing an export subsidy of 0.01 percent related to the Exemption from Import Income Tax Withholding for Companies in Bonded Zone Locations Program.

Exporter/producer | Cash deposit rate (percent)
PT Anugerah Kertas Utama, PT Riau Andalan Kertas, APRIL Fine Paper Macao Offshore Limited, PT Sateri Viscose International, and A P Fine Paper Trading (Hong Kong) Limited (collectively, APRIL) | ⁵ 66.81

Disclosure and Public Comment

Normally, Commerce discloses the calculations performed in connection with its preliminary results to interested parties within five days after the date of publication of the preliminary results of review in the Federal Register.⁶ However, there are no calculations to disclose here because, in accordance with section 776 of the Act, Commerce preliminarily applied AFA to APRIL, the sole company subject to this review, and based the AFA rate on the highest petition rate in this proceeding.⁷

⁶ See 19 CFR 351.224(b).

⁷ See Certain Uncoated Paper from Australia, Brazil, the People's Republic of China, Indonesia, and Portugal: Initiation of Less-Than-Fair-Value Investigations, 80 FR 8608 (February 18, 2015), and accompanying Antidumping Duty Investigation Initiation Checklist: Uncoated Paper from Indonesia at 12.

Interested parties may submit case briefs to Commerce no later than 30 days after the date of publication of this notice.⁸ Rebuttal briefs, limited to issues raised in the case briefs, may be filed no later than five days after the time limit for filing case briefs.⁹ Parties who submit case briefs or rebuttal briefs in this proceeding are encouraged to submit with each argument: (1) A statement of the issue; (2) a brief summary of the argument; and (3) a table of authorities.¹⁰ Case and rebuttal briefs should be filed using ACCESS.¹¹

⁸ See 19 CFR 351.309(c).

⁹ See 19 CFR 351.309(d).

¹⁰ See 19 CFR 351.309(c)(2) and (d)(2).

¹¹ See 19 CFR 351.303.

Pursuant to 19 CFR 351.310(c), interested parties who wish to request a hearing must submit a written request to the Assistant Secretary for Enforcement and Compliance, filed electronically via ACCESS. An electronically-filed document must be received successfully in its entirety by ACCESS by 5:00 p.m. Eastern Time within 30 days after the date of publication of this notice.¹² Hearing requests should contain: (1) The party's name, address, and telephone number; (2) the number of participants; and (3) a list of issues to be discussed. Issues raised in the hearing will be limited to issues raised in the briefs. If a request for a hearing is made, parties will be notified of the time and date for the hearing to be held at the U.S. Department of Commerce, 1401 Constitution Avenue NW, Washington, DC 20230.¹³

¹² See 19 CFR 351.310(c).

¹³ Id.

Commerce intends to issue the final results of this administrative review, including the results of its analysis raised in any written briefs, not later than 120 days after the publication date of this notice, pursuant to section 751(a)(3)(A) of the Act.

Assessment Rates

Upon issuance of the final results, Commerce will determine, and CBP shall assess, antidumping duties on all appropriate entries covered by this review.¹⁴ The final results of this review shall be the basis for the assessment of antidumping duties on entries of merchandise covered by the final results of this review and for future deposits of estimated duties, where applicable.¹⁵ We intend to issue assessment instructions to CBP 15 days after the date of publication of the final results of this review.

¹⁴ See 19 CFR 351.212(b)(1).

¹⁵ See section 751(a)(2)(C) of the Act.

Cash Deposit Requirements

The following deposit requirements will be effective for all shipments of the subject merchandise entered, or withdrawn from warehouse, for consumption on or after the publication date of the final results of this administrative review, as provided by section 751(a)(2)(C) of the Act: (1) The cash deposit rate for APRIL will be that established in the final results of this review; (2) for previously investigated companies not participating in this review, the cash deposit will continue to be the company-specific rate published for the most recently completed segment; (3) if the exporter is not a firm covered in this review, or the original less-than-fair-value (LTFV) investigation, but the manufacturer is, the cash deposit rate will be the rate established for the most recent segment for the manufacturer of the merchandise; and (4) the cash deposit rate for all other manufacturers or exporters will continue to be 2.10 percent, the all-others rate made effective by the LTFV investigation.¹⁶ These deposit requirements, when imposed, shall remain in effect until further notice.

¹⁶ See Order, 81 FR at 11174.

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties.

Notification to Interested Parties

We are issuing and publishing these preliminary results of review in accordance with sections 751(a)(1) and 777(i)(1) of the Act, and 19 CFR 351.221(b)(4).

Dated: November 1, 2018.
Christian Marsh,
Deputy Assistant Secretary for Enforcement and Compliance.

Appendix

List of Topics Discussed in the Preliminary Decision Memorandum

I. Summary

II. Background

III. Scope of the Order

IV. Application of Facts Available and Adverse Inferences

A. Use of Facts Available

B. Application of Facts Available With an Adverse Inference

C. Selection and Corroboration of AFA Rate

V. Duty Absorption

VI. Conclusion

[FR Doc. 2018-24333 Filed 11-6-18; 8:45 am]

BILLING CODE 3510-DS-P